DEPARTMENT OF JUSTICE

Notice of Lodging of Proposed Consent Decree Under the Clean Air Act

On April 19, 2017, the Department of Justice lodged a proposed consent decree with the United States District Court for the District of New Jersey in the lawsuit entitled United States v. Paulsboro Refining Company LLC, Civil Action No. 2:17-cv-02662.

In a complaint, the United States, on behalf of the U.S. Environmental Protection Agency (“EPA”), alleges that Paulsboro Refining Company LLC (“Paulsboro”) violated (1) the requirement to operate three flares at its petroleum refinery in Paulsboro, New Jersey, in a manner consistent with the good-air-pollution-control-practices provisions of both the new source performance standards (“NSPS”) and national emission standards for hazardous air pollutants (“NESHAP”) found in Sections 111, 112 and 114 of the Clean Air Act, 42 U.S.C. 7411, 7412 and 7414, and regulations promulgated thereunder; and (2) the refinery's CAA Title V Operating Permit. The proposed consent decree requires the Paulsboro to, among other things, bring the flares at the Facility into compliance with the NESHAP for Petroleum Refineries, 40 CFR part 60, subpart J. Two of the flares will be brought into compliance six months earlier than required by that provision. Paulsboro also will pay a civil penalty of $180,000.

The publication of this notice opens a period for public comment on the proposed consent decree. Comments should be addressed to the Assistant Attorney General, Environment and Natural Resources Division, and should refer to United States v. Paulsboro Refining Company LLC, D.J. Ref. No. 90-5-2-1-10408. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department Web site: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $6.00 (25 cents per page reproduction cost), payable to the United States Treasury.

Robert E. Maher, Jr.,
Assistant Chief, Environmental Enforcement Section, Environment & Natural Resources Division.

[FR Doc. 2017-08371 Filed 4-25-17; 8:45 am]

BILLING CODE 4410-15-P